DEPARTMENT OF TRANSPORTATION

Federal Aviation Administration

14 CFR Part 39

[Docket No. FAA-2010-0824; Directorate Identifier 2010-SW-045-AD; Amendment 39-16409; AD 2010-12-51]

RIN 2120-AA64

Airworthiness Directives; Agusta S.p.A. (Agusta) Model A119 and AW119 MKII Helicopters

AGENCY: Federal Aviation Administration, DOT.

ACTION: Final rule; request for comments.

SUMMARY: This document publishes in the Federal Register an amendment adopting Emergency Airworthiness Directive (AD) 2010-12-51, which was sent previously to all known U.S. owners and operators of the specified Agusta model helicopters by individual letters. This AD requires, before further flight, removing the forward boot from the hub-locking nut (nut) and inserting a gauge between the tail rotor control rod (rod) and nut until the gauge stops. This AD then requires, depending on the depth measurement from the face of the nut, either reidentifying the tail rotor gearbox (TGB) with a new part number (P/N) or replacing the TGB and the associated parts with airworthy parts. This AD is prompted by a report of a missing rod bushing (bushing) from a 90-degree TGB installed on a Model AW119 MKII helicopter. The Agusta Model A119 helicopters also have the affected TGB installed; therefore, they are also included in the applicability of this AD. The actions specified by this AD are intended to detect a missing bushing in the TGB and to prevent abnormal vibration, damage to the tail rotor system, loss of the yaw control function, and subsequent loss of control of the helicopter.

DATES: Effective September 17, 2010, to all persons except those persons to whom it was made immediately effective by Emergency AD 2010-12-51, issued on June 1, 2010, which contained the requirements of this amendment.

The incorporation by reference of certain publications listed in the regulations is approved by the Director of the Federal Register as of September 17, 2010.

Comments for inclusion in the Rules Docket must be received on or before November 1, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Eric Haight, Aviation Safety Engineer, FAA, Rotorcraft Directorate, Regulations and Policy Group, 2601 Meacham Blvd., Fort Worth, Texas 76137, telephone (817) 222-5204, fax (817) 222-5961.

SUPPLEMENTARY INFORMATION: On June 1, 2010, the FAA issued Emergency AD 2010-12-51 for the specified model helicopters, which requires, before further flight, removing the forward boot from the nut and inserting a gauge between the rod and nut until the gauge stops. The AD then requires, depending on the depth measurement from the face of the nut, either reidentifying the TGB with a new P/N or replacing the TGB and the associated parts with airworthy parts. The AD was prompted by a report of a missing bushing from a 90-degree TGB installed on a Model AW119 MKII helicopter. The Agusta Model A119 helicopters also have the affected TGB installed; therefore, they are also included in the applicability of the AD. This condition, if not corrected, could result in abnormal vibration and damage to the tail rotor system, loss of the yaw control function, and subsequent loss of control of the helicopter.

Agusta has issued Alert Bollettino Tecnico No. 119-38, dated March 25, 2010 (ABT), which specifies inspecting the TGB, P/N 109-0440-06-103, to verify the presence of the bushing. If the bushing is not installed, the ABT specifies replacing the TGB and associated parts with a “new” TGB assembly, P/N 109-0440-06-105. Also, the ABT specifies if the bushing is installed, reidentifying the TGB “by installing an additional nameplate” with P/N 109-0440-06-105.

The European Aviation Safety Agency (EASA), the Technical Agent for the Member States of the European Community, notified the FAA that an unsafe condition may exist on these helicopter models. EASA advises of a missing bushing in the TGB of a Model AW119 MKII helicopter. EASA also advises that “this condition, if not detected and corrected, could cause abnormal vibration of the tail rotor controls possibly leading to their damage and consequent loss of the yaw control function.” EASA classified the Agusta ABT as mandatory and issued Emergency AD No. 2010-0059-E, dated March 26, 2010, to ensure the continued airworthiness of these helicopters.

This AD differs from the EASA Emergency AD in that we refer to flight hours as hours time-in-service (TIS). We also do not refer to a compliance date of June 30, 2010. We added the requirement of the thickness gauge being no wider than 10 mm. We added the determinate that if the depth between the rod and the nut is between 4 mm and 6 mm, the bushing is installed. We do not require an additional nameplate but require reidentifying the TGB P/N with an etch pen by changing the last three digits of the P/N from -103 to -105.

These helicopter models are manufactured in Italy and are type certificated for operation in the United States under the provisions of 14 CFR 21.29 and the applicable bilateral agreement. Pursuant to the applicable bilateral agreement, EASA has kept the FAA informed of the situation described above. The FAA has examined the findings of EASA, reviewed all available information, and determined that AD action is necessary for products of these type designs that are certificated for operation in the United States.

Since the unsafe condition described is likely to exist or develop on other Agusta model helicopters of these same type designs, the FAA issued Emergency AD 2010-12-51 to detect a missing bushing in the TGB and to prevent abnormal vibration and damage to the tail rotor system, loss of the yaw control function, and subsequent loss of control of the helicopter. The AD requires, before further flight, removing the forward boot from the nut and inserting a 0.3 mm thickness gauge, not exceeding 10 mm in width, between the rod and nut until the gauge stops. The AD requires, from the face of the nut, measuring the depth the gauge is inserted between the rod and the nut before it stops. If the depth measurement is between 4 mm and 6 mm, the bushing is installed, and the AD requires reidentifying the TGB, P/N 109-0440-06-103, by using an etch pen to change the last three digits of the P/N from -103 to -105. If the depth measurement is greater than 6 mm, the AD requires, before further flight, replacing the TGB and the associated parts with airworthy parts. The actions must be accomplished in accordance with specified portions of the ABT described previously.

The short compliance time involved is required because the previously described critical unsafe condition can adversely affect the controllability and structural integrity of the helicopter. Therefore, measuring the depth between the rod and the nut of the TGB, and if the depth measurement is greater than 6 mm, replacing the TGB and associated parts with airworthy parts are required before further flight, and this AD must be issued immediately.

Since it was found that immediate corrective action was required, notice and opportunity for prior public comment thereon were impracticable and contrary to the public interest, and good cause existed to make the AD effective immediately by individual letters issued on June 1, 2010, to all known U.S. owners and operators of the specified Agusta model helicopters. These conditions still exist, and the AD is hereby published in the Federal Register as an amendment to 14 CFR 39.13 to make it effective to all persons.

The FAA estimates that this AD will affect 69 helicopters of U.S. registry. It will take 1.5 work hours per helicopter to conduct the depth inspection and reidentify the TGB, and about 10 work hours per helicopter to replace a TGB and associated parts. The average labor rate is $85 per work hour. Required parts will cost about $128,275 per helicopter. Based on these figures, we estimate the total cost impact of the AD on U.S. operators to be $911,780, assuming the TGB and associated parts are replaced on 7 helicopters.

Comments Invited

This AD is a final rule that involves requirements that affect flight safety and was not preceded by notice and an opportunity for public comment; however, we invite you to submit any written data, views, or arguments regarding this AD. Send your comments to an address listed under ADDRESSES. Include “Docket No. FAA-2010-0824; Directorate Identifier 2010-SW-045-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-12-51 AGUSTA S.p.A.: Amendment 39-16409. Docket No. FAA-2010-0824; Directorate Identifier 2010-SW-045-AD.

Applicability: Model A119 and AW119 MKII helicopters, with a 90-degree tail rotor gearbox (TGB), part number (P/N) 109-0440-06-103, installed, certificated in any category.

Compliance: Required as indicated, unless accomplished previously.

To prevent abnormal vibration and damage to the tail rotor system, loss of the yaw control function, and subsequent loss of control of the helicopter, do the following:

(a) Before further flight, remove the forward boot, P/N 109-0135-10, from the hub-locking nut (nut), P/N 109-0135-12, as shown in Figure 1 of Agusta Alert Bollettino Tecnico No. 119-38, dated March 25, 2010 (ABT).

(1) Insert a 0.3 millimeter (mm) thickness gauge, not exceeding 10 mm in width, between the tail rotor control rod (rod) and the nut as shown in Figure 2 of the ABT until the gauge stops.

(2) From the face of the nut, measure the depth the gauge is inserted between the rod and the nut before it stops:

(i) If the depth measurement is between 4 mm and 6 mm, the bushing, P/N 109-0135-14-101, is installed. Within 5 hours time-in service, reidentify the TGB, P/N 109-0440-06-103, by using an etch pen to change the last three digits of the P/N from -103 to -105.

Note 1: Installing a new nameplate by following the Compliance Instructions, Part II, of the ABT satisfies the reidentification requirements of the TGB P/N in paragraph (a)(2)(i) of this AD.

(ii) If the depth measurement is greater than 6 mm, before further flight, replace the TGB, P/N 109-0440-06-103, with TGB, P/N 109-0440-06-105, and replace the associated parts listed in the Accomplishment Instructions, Part I, paragraph 4, of the ABT with the associated parts listed in the Accomplishment Instructions, Part I, paragraph 5, of the ABT.

(b) To request a different method of compliance or a different compliance time for this AD, follow the procedures in 14 CFR 39.19. Contact the Manager, Safety Management Group, FAA, ATTN: Eric Haight, Aviation Safety Engineer, FAA, Rotorcraft Directorate, Regulations and Guidance Group, 2601 Meacham Blvd., Fort Worth, Texas 76137, telephone (817) 222-5204, fax (817) 222-5961, for information about previously approved alternative methods of compliance.

(c) The Joint Aircraft System/Component (JASC) Code is 6520: Tail Rotor Gearbox.

(d) Replacing the associated parts and removing the boot, and measuring the insertion depth of the gauge shall be done by following the specified portions of Agusta Alert Bollettino Tecnico No. 119-38, dated March 25, 2010. The Director of the Federal Register approved this incorporation by reference in accordance with 5 U.S.C. 552(a) and 1 CFR part 51. Copies may be obtained from Agusta, Via Giovanni Agusta, 520 21017 Cascina Costa di Samarate (VA), Italy, telephone 39 0331-229111, fax 39 0331-229605/222595, or at http://customersupport.agusta.com/technical_advice.php. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(e) This amendment becomes effective on September 17, 2010, to all persons except those persons to whom it was made immediately effective by Emergency AD 2010-12-51, issued June 1, 2010, which contained the requirements of this amendment.

Note 2: The subject of this AD is addressed in the European Aviation Safety Agency Emergency AD No. 2010-0059-E, dated March 26, 2010.

Issued in Fort Worth, Texas, on August 12, 2010.
Mark R. Schilling,
Acting Manager, Rotorcraft Directorate, Aircraft Certification Service.

[FR Doc. 2010-21593 Filed 9-1-10; 8:45 am]

BILLING CODE 4910-13-P